FEDERAL COMMUNICATIONS COMMISSION

[MB Docket No. 14-50, DA 14-1809]

Congress Extends Television Joint Sales Agreement Compliance Deadline

AGENCY: Federal Communications Commission.

ACTION: Notice.

SUMMARY: In this Public Notice, the Media Bureau announces that recently enacted legislation has extended the compliance deadline for parties to certain attributable television joint sales agreements (JSAs) to come into compliance with the Commission's broadcast ownership limits.

DATES: December 19, 2016.

FOR FURTHER INFORMATION CONTACT: For additional information on this proceeding, contact Hillary DeNigro, Hillary.DeNigro@fcc.gov, or Benjamin Arden, Benjamin.Arden@fcc.gov, of the Industry Analysis Division, Media Bureau, at (202) 418-2330. Press inquiries should be directed to Janice Wise, (202) 418-8165. TTY: (202) 418-7172 or (888) 835-5322.

SUPPLEMENTARY INFORMATION: On April 15, 2014, the Commission released a Report and Order in the 2014 Quadrennial Regulatory Review—Review of the Commission's Broadcast Ownership Rules and Other Rules Adopted Pursuant to section 202 of the Telecommunications Act of 1996. In the Report and Order, the Commission adopted an attribution rule for television JSAs, establishing that same-market television JSAs for more than 15 percent of the weekly advertising time for the brokered station are to be counted toward the brokering station's ownership totals, just as the Commission has long done with respect to radio stations. The Report and Order provided a two-year compliance period—from the effective date of the Report and Order—for parties to same-market JSAs in existence as of the release date whose attribution results in a violation of the broadcast ownership limits to come into compliance with the broadcast ownership rules. Subsequently, the Media Bureau announced that the effective date of the Report and Order was June 19, 2014, and the two-year compliance period would end on June 19, 2016.

The STELA Reauthorization Act of 2014 (STELAR) was enacted on December 4, 2014. In STELAR, Congress provided that licensees with attributable television JSAs “shall not be considered to be in violation of the ownership limitations [in section 73.3555 of the Commission's rules, 47 CFR 73.3555,] by reason of the application of the [attribution] rule” until six months after the end of the two-year compliance period adopted by the Commission. The six-month period ends on December 19, 2016.

Federal Communications Commission.
Thomas Horan,
Chief of Staff.

[FR Doc. 2014-30093 Filed 12-22-14; 8:45 am]

BILLING CODE 6712-01-P